OFFICE OF THE UNITED STATES TRADE REPRESENTATIVE

Fiscal Year 2021 Allocation of Additional Tariff-Rate Quota Volume for Raw Cane Sugar

AGENCY: Office of the United States Trade Representative.

ACTION: Notice.

SUMMARY: The Office of the United States Trade Representative (USTR) is providing notice of the allocations of additional fiscal year (FY) 2021 in-quota quantities of the World Trade Organization (WTO) tariff-rate quota (TRQ) for imported raw cane sugar as announced by the Secretary of Agriculture on August 24, 2021.

DATES: The changes made by this notice are applicable as of August 26, 2021.

FOR FURTHER INFORMATION CONTACT: Erin Nicholson, Office of Agricultural Affairs, at 202-395-9419 or erin.h.nicholson@ustr.eop.gov.

SUPPLEMENTARY INFORMATION: Pursuant to Additional U.S. Note 5 to Chapter 17 of the Harmonized Tariff Schedule of the United States (HTSUS), the United States maintains WTO TRQs for imports of raw cane and refined sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On August 24, 2021, the Secretary of Agriculture announced an additional in-quota quantity of the TRQ for raw cane sugar for the remainder of FY 2021 (ending September 30, 2021) in the amount of 90,100 metric tons raw value (MTRV). The conversion factor is 1 metric ton equals 1.10231125 short tons. This quantity is in addition to the minimum amount to which the United States is committed under the WTO Uruguay Round Agreements (1,117,195 MTRV).

The Secretary of Agriculture also has determined that all sugar entering the United States under the FY 2021 raw sugar TRQ will be permitted to enter U.S. Customs territory through October 31, 2021, a month later than the usual last entry date. The U.S. Trade Representative is allocating this additional quantity of 90,100 MTRV to the following countries in the amounts specified below:

Country | FY 2021 raw sugar TRQ increase allocations (MTRV)
Argentina | 4,662
Australia | 8,999
Belize | 1,193
Bolivia | 867
Brazil | 15,722
Colombia | 2,602
Costa Rica | 1,626
Dominican Republic | 19,083
Ecuador | 1,193
El Salvador | 2,819
Eswatini (Swaziland) | 1,735
Fiji | 976
Guatemala | 5,204
Guyana | 1,301
Honduras | 1,084
India | 867
Jamaica | 1,193
Malawi | 1,084
Mauritius | 1,301
Mozambique | 1,410
Nicaragua | 2,277
Panama | 3,144
Peru | 4,445
South Africa | 2,494
Thailand | 1,518
Zimbabwe | 1,301

These allocations are based on the countries' historical shipments to the United States. The allocations of the raw cane sugar WTO TRQ to countries that are net importers of sugar are conditioned on receipt of the appropriate verifications of origin. Certificates for quota eligibility must accompany imports from any country for which an allocation has been provided.

Greta M. Peisch,
General Counsel, Office of the United States Trade Representative.

[FR Doc. 2021-18379 Filed 8-25-21; 8:45 am]

BILLING CODE 3290-F1-P